DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual Regulatory Agenda.

SUMMARY: This notice provides the semiannual agenda of Department of the Interior (Department) rules scheduled for review or development between Fall 2021 and Fall 2022. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation.

Bivan R. Patnaik,
Deputy Director of Policy and Regulatory Affairs, Executive Secretariat and Regulatory Affairs.

Bureau of Safety and Environmental Enforcement—Proposed Rule Stage
Sequence No. | Title | Regulation Identifier No.
320 | Oil and Gas and Sulfur Operations in the Outer Continental Shelf-Blowout Preventer Systems and Well Control Revisions | 1014-AA52

Bureau of Safety and Environmental Enforcement—Long-Term Actions
Sequence No. | Title | Regulation Identifier No.
321 | Revisions to Decommissioning Requirements on the OCS | 1014-AA53

Assistant Secretary for Land and Minerals Management—Final Rule Stage
Sequence No. | Title | Regulation Identifier No.
322 | Risk Management, Financial Assurance and Loss Prevention—Decommissioning Activities and Obligations | 1082-AA02

United States Fish and Wildlife Service—Proposed Rule Stage
Sequence No. | Title | Regulation Identifier No.
323 | Migratory Bird Hunting; 2022-23 Migratory Game Bird Hunting Regulations | 1018-BF07
324 | Migratory Bird Hunting; 2023-24 Migratory Game Bird Hunting Regulations | 1018-BF64

United States Fish and Wildlife Service—Long-Term Actions
Sequence No. | Title | Regulation Identifier No.
325 | Importation, Exportation and Transportation of Wildlife; Updates to the Regulations | 1018-BF16

United States Fish and Wildlife Service—Completed Actions
Sequence No. | Title | Regulation Identifier No.
326 | Migratory Bird Hunting; 2021-22 Migratory Game Bird Hunting Regulations | 1018-BE34

Bureau of Ocean Energy Management—Long-Term Actions
Sequence No. | Title | Regulation Identifier No.
327 | Air Quality Rule | 1010-AE09

DEPARTMENT OF THE INTERIOR (DOI)

Bureau of Safety and Environmental Enforcement (BSEE)

Proposed Rule Stage

320. Oil and Gas and Sulfur Operations in the Outer Continental Shelf-Blowout Preventer Systems and Well Control Revisions

Legal Authority: Not Yet Determined

Abstract: This rulemaking would revise the Bureau of Safety and Environmental Enforcement (BSEE) regulations published in the 2019 final rule entitled “Oil and Gas and Sulfur Operations in the Outer Continental ShelfBlowout Preventer Systems and Well Control Revisions,” 84 FR 21908 (May 15, 2019), for drilling, workover, completion and decommissioning operations. In accordance with Executive Order (E.O.) 13990 (Protecting Public Health and the Environment and Restoring Science to Tackle the Climate Crisis) and the E.O.'s accompanying “President's Fact Sheet: List of Agency Actions for Review,” BSEE reviewed the 2019 final rule and plans to propose updates to Subparts D and G of 30 CFR part 250 to ensure operations are conducted safely and in an environmentally responsible manner.

Timetable:

Action | Date | FR Cite
NPRM | 06/00/22
NPRM Comment Period End | 08/00/22

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA52

DEPARTMENT OF THE INTERIOR (DOI)

Bureau of Safety and Environmental Enforcement (BSEE)

Long-Term Actions

321. • Revisions to Decommissioning Requirements on the OCS

Legal Authority: Outer Continental Shelf Lands Act, 43 U.S.C. 1331 to 1356a

Abstract: This proposed rule would address issues relating to (1) idle iron by adding a definition of this term to clarify that it applies to idle wells and structures on active leases; (2) abandonment in place of subsea infrastructure by adding regulations addressing when BSEE may approve decommissioning-in-place instead of removal of certain subsea equipment; and (3) other operational considerations.

Timetable:

Action | Date | FR Cite
NPRM | 11/00/22
NPRM Comment Period End | 01/00/23

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA53

DEPARTMENT OF THE INTERIOR (DOI)

Assistant Secretary for Land and Minerals Management (ASLM)

Final Rule Stage

322. Risk Management, Financial Assurance and Loss Prevention—Decommissioning Activities and Obligations

Legal Authority: 43 U.S.C. 1334(a)

Abstract: On October 12, 2020, the Bureau of Ocean Energy Management (BOEM) and Bureau of Safety and Environmental Enforcement (BSEE) published the joint proposed rule in the Federal Register (85 FR 65904). BSEE will continue to pursue this rulemaking as a BSEE-only final rule to revise policies and procedures concerning compliance with decommissioning obligations for Outer Continental Shelf (OCS) oil and gas. The final rule will clarify and streamline specific regulatory requirements associated with the operational and procedural aspects of applicable decommissioning responsibilities of OCS lessees and grant holders. BOEM will continue to evaluate and develop a comprehensive set of regulations to manage the risks and financial obligations associated with industry activities on the OCS and pursue these actions in a separate rulemaking under RIN 1010-AE14.

Timetable:

Action | Date | FR Cite
NPRM | 10/16/20 | 85 FR 65904
NPRM Comment Period End | 12/15/20
Final Action | 12/00/21
Final Action Effective | 01/00/22

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov., Bivan Patnaik, Deputy Director of Regulatory Affairs, Department of the Interior, Washington, DC 20240, Phone: 202 208-4582, Email: bivan_patnaik@ios.doi.gov.

RIN: 1082-AA02

DEPARTMENT OF THE INTERIOR (DOI)

United States Fish and Wildlife Service (FWS)

Proposed Rule Stage

323. Migratory Bird Hunting; 2022-23 Migratory Game Bird Hunting Regulations

Legal Authority: 16 U.S.C. 703 to 712; 16 U.S.C. 742a-j

Abstract: This proposed rule would establish annual hunting regulations for certain migratory game birds for the 2022-23 hunting season. The FWS annually prescribes outside limits (frameworks) within which States may select hunting seasons. This proposed rule provides the regulatory schedule, announces the Service Migratory Bird Regulations Committee and Flyway Council meetings, describes the proposed regulatory alternatives for the 2022-23 duck hunting seasons, and requests proposals from Indian Tribes that wish to establish special migratory game bird hunting regulations on Federal Indian reservations and ceded lands.

Timetable:

Action | Date | FR Cite
Notice of Meeting | 03/25/21 | 86 FR 15957
Meeting | 04/06/21
NPRM | 08/31/21 | 86 FR 48649
NPRM Comment Period End | 09/30/21
NPRM—Proposed Frameworks | 12/00/21
NPRM—Proposed Tribal Regulations | 01/00/22
Final Action—Final Frameworks | 02/00/22
Final Action—Final Tribal Regulations | 04/00/22
Final Action—Season Selections | 06/00/22

Regulatory Flexibility Analysis Required: Yes.

Agency Contact: Jerome Ford, Assistant Director--Migratory Bird Program, Department of the Interior, United States Fish and Wildlife Service, 5275 Leesburg Pike, MS-MB, Falls Church, VA 22041-3803, Phone: 703 358-1050, Email: jerome_ford@fws.gov.

RIN: 1018-BF07

324. Migratory Bird Hunting; 2023-24 Migratory Game Bird Hunting Regulations

Legal Authority: 16 U.S.C. 703 et seq.; 16 U.S.C. 742a-j

Abstract: This proposed rule would establish annual hunting regulations for certain migratory game birds. The U.S. Fish and Wildlife Service annually prescribes the frameworks, or outside limits, for season lengths, bag limits, and areas for migratory game bird hunting. After these frameworks are established, States may select season dates, bag limits, and other regulatory options for their hunting seasons.

Timetable:

Action | Date | FR Cite
NPRM | 06/00/22

Regulatory Flexibility Analysis Required: Yes.

Agency Contact: Dr. Eric L. Kershner, Chief, Branch of Conservation, Permits, and Regulations, Department of the Interior, United States Fish and Wildlife Service, 5275 Leesburg Pike, MS: MB, Falls Church, VA 22041, Phone: 703 358-2376, Fax: 703 358-2217, Email: eric_kershner@fws.gov.

RIN: 1018-BF64

DEPARTMENT OF THE INTERIOR (DOI)

United States Fish and Wildlife Service (FWS)

Long-Term Actions

325. Importation, Exportation and Transportation of Wildlife; Updates to the Regulations

Legal Authority: 16 U.S.C. 668; 16 U.S.C. 704; 16 U.S.C. 712; 16 U.S.C. 1382; 16 U.S.C. 1538(d)-(f),; 16 U.S.C. 1540(f); 16 U.S.C. 33 8(d)-(f); 16 U.S.C. 3371 to 3378; 16 U.S.C. 4223 to 4244; 16 U.S.C. 4901 to 4916; 18 U.S.C. 42; 31 U.S.C. 42; 31 U.S.C. 9701

Abstract: This proposed rule would rewrite FWS's regulations governing the importation and exportation of wildlife to make these regulations easier to understand. In addition, FWS proposes to revise the inspection fees associated with the importation and exportation of wildlife and to update the list of species that qualify as domesticated species, for which FWS inspection and clearance is not required. The current inspection fees have been in effect since 2012. The establishment of these fees is consistent with the Independent Offices Appropriations Act of 1952 and OMB Circular No. A-25, which provide that services provided by Federal agencies are to be self-sustaining to the extent possible and that fees assessed should be sufficient to recover the full cost to the Federal Government of providing the service and are based on market prices.

Timetable:

Action | Date | FR Cite
NPRM | To Be Determined

Regulatory Flexibility Analysis Required: Yes.

Agency Contact: Edward Grace, Assistant Director, Office of Law Enforcement, Department of the Interior, United States Fish and Wildlife Service, 5275 Leesburg Pike, MS: LEO, Falls Church, VA 22041-3803, Phone: 703 358-1949, Fax: 703 358-1947, Email: edward_grace@fws.gov.

RIN: 1018-BF16

DEPARTMENT OF THE INTERIOR (DOI)

United States Fish and Wildlife Service (FWS)

Completed Actions

326. Migratory Bird Hunting; 2021-22 Migratory Game Bird Hunting Regulations

Legal Authority: 16 U.S.C. 703 to 712; 16 U.S.C. 742a-j

Abstract: This rule established hunting regulations for certain migratory game birds for the 2021-2022 hunting season. Migratory game bird hunting seasons provide opportunities for recreation and sustenance; aid Federal, State, and Tribal governments in the management of migratory game birds; and permit harvests at levels compatible with migratory game bird population status and habitat conditions. The FWS annually prescribes outside limits (frameworks) within which States may select hunting seasons. The FWS also works with Indian tribes that wish to establish special migratory game bird hunting regulations on Federal Indian reservations and ceded lands.

Timetable:

Action | Date | FR Cite
NPRM | 10/09/20 | 85 FR 64097
NPRM Comment Period End | 11/09/20
NPRM—Proposed Frameworks | 02/22/21 | 86 FR 10622
NPRM Comment Period End | 03/24/21
NPRM—Proposed Tribal Regulations | 05/04/21 | 86 FR 23641
NPRM Comment Period End | 06/03/21
Final Action—Final Frameworks | 07/16/21 | 86 FR 37854
Final Action Effective—Final Frameworks | 07/16/21
Final Action—Final Tribal Regulations | 08/17/21 | 86 FR 45909
Final Action Effective—Final Tribal Regulations | 08/17/21
Final Action—Season Selections | 08/31/21 | 86 FR 48569
Final Action Effective—Season Selections | 08/31/21

Regulatory Flexibility Analysis Required: Yes.

Agency Contact: Jerome Ford, Assistant Director--Migratory Bird Program, Department of the Interior, United States Fish and Wildlife Service, 5275 Leesburg Pike, MS-MB, Falls Church, VA 22041-3803, Phone: 703 358-1050, Email: jerome_ford@fws.gov.

RIN: 1018-BE34

DEPARTMENT OF THE INTERIOR (DOI)

Bureau of Ocean Energy Management (BOEM)

Long-Term Actions

327. Air Quality Rule

Legal Authority: OCSLA sec. 5(a)(8)

Abstract: This proposed rule would identify opportunities for clarifying air quality regulations.

Timetable:

Action | Date | FR Cite
NPRM | To Be Determined

Regulatory Flexibility Analysis Required: Yes.

Agency Contact: Peter Meffert, Regulatory Specialist, Department of the Interior, Bureau of Ocean Energy Management, 45600 Woodland Road, Sterling, VA 20166, Phone: 703 787-1610, Email: peter.meffert@boem.gov.

RIN: 1010-AE09

[FR Doc. 2021-27978 Filed 1-28-22; 8:45 am]

BILLING CODE 4334-63-P